INTERNATIONAL TRADE COMMISSION

[Investigation No. 731-TA-814 (Final)]

Creatine Monohydrate From China

Determination

On the basis of the record ¹ developed in the subject investigation, the United States International Trade Commission determines, pursuant to section 735(b) of the Tariff Act of 1930 (19 U.S.C. § 1673d(b)) (the Act), that an industry in the United States is materially injured by reason of imports from China of creatine monohydrate, provided for in subheading 2925.20.90 of the Harmonized Tariff Schedule of the United States, that have been found by the Department of Commerce to be sold in the United States at less than fair value (LTFV).² The Commission made a negative determination concerning critical circumstances.

¹ The record is defined in sec. 207.2(f) of the Commission's Rules of Practice and Procedure (19 CFR § 207.2(f)).

² Commissioner Deanna Tanner Okun did not participate in this investigation.

Background

The Commission instituted this investigation effective February 12, 1999, following receipt of a petition filed with the Commission and the Department of Commerce by Pfanstiehl Laboratories, Inc., Waukegan, IL. The final phase of the investigation was scheduled by the Commission following notification of a preliminary determination by the Department of Commerce that imports of creatine monohydrate from China were being sold at LTFV within the meaning of section 733(b) of the Act (19 U.S.C. § 1673b(b)). Notice of the scheduling of the Commission's investigation and of a public hearing to be held in connection therewith was given by posting copies of the notice in the Office of the Secretary, U.S. International Trade Commission, Washington, DC, and by publishing the notice in the Federal Register of August 19, 1999 (64 FR 45275). The hearing was held in Washington, DC, on December 16, 1999, and all persons who requested the opportunity were permitted to appear in person or by counsel.

The Commission transmitted its determination in this investigation to the Secretary of Commerce on January 28, 2000. The views of the Commission are contained in USITC Publication 3272 (January, 2000), entitled Creatine Monohydrate from China (Investigation No. 731-TA-814 (Final)).

By order of the Commission.
Issued: January 28, 2000.
Donna R. Koehnke,
Secretary.

[FR Doc. 00-2331 Filed 2-2-00; 8:45 am]

BILLING CODE 7020-01-P